DEPARTMENT OF COMMERCE

National Oceanic and Atmospheric Administration

15 CFR Part 902

50 CFR Part 665

[Docket No. 0907211157-0522-04]

RIN 0648-AX76

Fisheries in the Western Pacific; Community Development Program Process

AGENCY: National Marine Fisheries Service (NMFS), National Oceanic and Atmospheric Administration (NOAA), Commerce.

ACTION: Final rule; effectiveness of collection-of-information requirements.

SUMMARY: In this rule, NMFS announces approval by the Office of Management and Budget (OMB) of collection-of-information requirements contained in regulations implementing Amendment 1 to the Fishery Ecosystem Plans for American Samoa, Hawaii, the Mariana Archipelago, and Western Pacific Pelagic Fisheries, relating to the community development plan process. The intent of this final rule is to inform the public that OMB has approved the associated reporting requirements.

DATES: New 50 CFR 665.20(c), published at 75 FR 54044 (September 3, 2010), has been approved by OMB and is effective on December 6, 2010. The amendment to 15 CFR part 902 in this rule is effective December 6, 2010.

ADDRESSES: Written comments regarding the burden-hour estimates or other aspects of the collection-of-information requirements contained in this final rule may be submitted to NMFS, attention Michael D. Tosatto, 1601 Kapiolani Blvd., Honolulu, HI 96814, and to OMB by e-mail to OIRA_Submission@omb.eop.gov or fax to 202-395-7285.

FOR FURTHER INFORMATION CONTACT: Jarad Makaiau, NMFS Pacific Islands Region (PIR), Sustainable Fisheries, tel 808-944-2108.

SUPPLEMENTARY INFORMATION: A final rule for Amendment 1 was published in the Federal Register on September 3, 2010 (75 FR 54044). The requirements of that final rule, other than the collection-of-information requirements, were effective on October 4, 2010. Because OMB had not approved the collection-of-information requirements by the date that final rule was published, the effective date of the associated permitting and reporting requirements in that rule was delayed. OMB approved the collection-of-information requirements contained in the final rule on September 22, 2010.

Under NOAA Administrative Order 205-11, dated December 17, 1990, the Under Secretary for Oceans and Atmosphere has delegated authority to sign material for publication in the Federal Register to the Assistant Administrator for Fisheries, NOAA.

Classification

This final rule has been determined to be not significant for purposes of Executive Order 12866.

Notwithstanding any other provision of the law, no person is required to respond to, and no person shall be subject to penalty for failure to comply with, a collection of information subject to the requirements of the Paperwork Reduction Act (PRA), unless that collection of information displays a currently valid OMB control number.

This final rule contains new collection-of-information requirements subject to the PRA under OMB Control Number 0648-0612. The public reporting burden for developing and submitting a development plan is estimated to average six hours per response, including the time for reviewing instructions, searching existing data sources, gathering and maintaining the data needed, and completing and reviewing the collection information. Send comments regarding these burden estimates or any other aspect of this data collection, including suggestions for reducing the burden, to NMFS (see ADDRESSES) and to OMB by e-mail to OIRA_Submission@omb.eop.gov or fax to 202-395-7285.

List of Subjects in 15 CFR Part 902

Reporting and recordkeeping requirements.

Dated: November 2, 2010.
Samuel D. Rauch III,
Deputy Assistant Administrator for Regulatory Programs, National Marine Fisheries Service.

For the reasons set out in the preamble, 15 CFR part 902 is amended as follows:

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, amend the table in paragraph (b), under the entry “50 CFR” by adding the entry for § 665.20 in numerical order to read as follows:

§ 902.1 OMB control numbers assigned pursuant to the Paperwork Reduction Act.

* * * * *

(b) * * *

CFR part or section where the information collection requirement is located | Current OMB control No. (all numbers begin with 0648-)
| * * * * * * *
50 CFR |
| * * * * * * *
665.20 | -0612
| * * * * * * *

[FR Doc. 2010-28075 Filed 11-4-10; 8:45 am]

BILLING CODE 3510-22-P